Proclamation 9338 of September 30, 2015

National Substance Abuse Prevention Month, 2015

By the President of the United States of America

A Proclamation

Every day, millions of American families, friends, teachers, and community organizations work to ensure children have access to the support and resources needed to help prevent substance abuse. As we mark National Substance Abuse Prevention Month, we come together to acknowledge the role every person can play in preventing substance abuse and recommit to fostering a culture where all our people can live up to their fullest potential.

Community partners in all corners of our country work to foster positive, safe environments in our towns and cities, and my Administration is committed to bolstering these efforts. Thanks to the Affordable Care Act, health plans offered through the Health Insurance Marketplace must include mental health and substance use disorder services. My Administration has also taken action to ensure that coverage for these services is comparable to coverage for medical and surgical benefits. Preventing substance abuse is a fundamental element of our National Drug Control Strategy and can only be accomplished by supporting parents, mentors, schools, and community members as they work to prevent substance abuse before it begins. Together, by promoting evidence-based prevention programs, we can provide individuals with the tools and information they need to make smart choices, avoid needless tragedy, and lead healthy, fulfilling lives.

Alcohol and drug use can stand in the way of academic achievement, jeopardize school safety, and limit a young person's possibilities. Additionally, thousands of Americans die each year from prescription drug overdose—and many can access these drugs in their own medicine cabinets at home. We must educate our children about the harms and risks associated with substance abuse. By talking with our sons and daughters early and often about the dangers of drug and alcohol use, we can help set them firmly on a path toward a brighter future.

In the United States, no child's dreams should be out of reach because the necessary encouragement and care were not accessible. As a Nation, as community members, and as American citizens, we have an obligation to help cultivate a society free from substance abuse. This month, let us resolve to model a healthy lifestyle for those around us, talk openly with our youth about the dangers of drug and alcohol use, and reach for a future where opportunity knows no bounds.

NOW, THEREFORE, I, BARACK OBAMA, President of the United States of America, by virtue of the authority vested in me by the Constitution and the laws of the United States, do hereby proclaim October 2015 as National Substance Abuse Prevention Month. I call upon all Americans to engage in appropriate programs and activities to promote comprehensive substance abuse prevention efforts within their communities.

IN WITNESS WHEREOF, I have hereunto set my hand this thirtieth day of September, in the year of our Lord two thousand fifteen, and of the Independence of the United States of America the two hundred and fortieth.

[FR Doc. 2015-25478

Filed 10-2-15; 11:15 am]

Billing code 3295-F6-P